DEPARTMENT OF THE TREASURY

Office of the Comptroller of the Currency

Agency Information Collection Activities: Proposed Information Collection; Submission for OMB Review

AGENCY: Office of the Comptroller of the Currency, Treasury.

ACTION: Notice and request for comment.

SUMMARY: The Office of the Comptroller of the Currency (OCC), as part of its continuing effort to reduce paperwork and respondent burden, invites the general public and other Federal agencies to take this opportunity to comment on a continuing information collection, as required by the Paperwork Reduction Act of 1995.

An agency may not conduct or sponsor, and a respondent is not required to respond to, an information collection unless it displays a currently valid OMB control number. The OCC is soliciting comment concerning its information collection titled, “Securities Exchange Act Disclosure Rules and Securities of Federal Savings Associations.”

The OCC also is announcing that the proposed collection of information has been submitted to the Office of Management and Budget (OMB) for review and clearance under the Paperwork Reduction Act of 1995.

DATES: Comments must be received by February 13, 2013.

ADDRESSES: Communications Division, Office of the Comptroller of the Currency, Mailstop 6W-11, Attention: 1557-0106, Washington, DC 20219. In addition, comments may be sent by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

Additionally, please send a copy of your comments by mail to: OCC Desk Officer, 1557-0106, U.S. Office of Management and Budget, 725 17th Street NW. #10235, Washington, DC 20503, or by electronic mail to oira_submission@omb.eop.gov.

FOR FURTHER INFORMATION CONTACT: You can request additional information or a copy of the collection from Johnny Vilela or Mary H. Gottlieb, OCC Clearance Officers, (202) 649-5490, Legislative and Regulatory Activities Division, Office of the Comptroller of the Currency, Washington, DC 20219.

SUPPLEMENTARY INFORMATION: In compliance with 44 U.S.C. 3507, the OCC has submitted the following proposed collection of information to OMB for review and clearance.

Securities Exchange Act Disclosure Rules and Securities of Federal Savings Association—12 CFR 11 and 12 CFR 194 (OMB Control Number 1557-0106)

The OCC is proposing to extend OMB approval of the following information collection:

Title: Securities Exchange Act Disclosure Rules (12 CFR part 11) and Securities of Federal Savings Associations (12 CFR part 194).

OMB Control No.: 1557-0106.

Description: This submission covers an existing regulation and involves no change to the regulation or to the information collection requirements. The OCC requests only that OMB approve its revised estimates.

The Securities and Exchange Commission (SEC) is required by statute to collect, through regulation, from any firm that is required to register its stock with the SEC, certain information and documents. 15 U.S.C. 78m(a)(1). Federal law requires the OCC to apply equivalent requirements to any national bank or Federal savings association required to be registered (those with a class of equity securities held by 2,000 or more shareholders). 15 U.S.C. 78l(i).

12 CFR parts 11 and 194 seek to ensure that a national bank or Federal savings association whose securities are subject to registration provides adequate information about its operations to current and potential shareholders, depositors, and to the public. The OCC reviews the information to ensure that registered national banks and Federal savings associations comply with Federal law and makes public all information required to be filed under these rules. Investors, depositors, and the public use this information to make informed investment decisions.

In the Federal Register of October 24, 2012 (77 FR 65054), the OCC published a 60-day notice requesting public comment on the templates and the collection of information. The OCC received no comments on the collection of information portion of the notice.

Burden Estimates

The OCC estimates the burden of this collection of information as follows:

Estimated Number of Respondents: 14.

Estimated Total Annual Responses: 78.

Estimated Total Annual Burden: 522.5 hours.

Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: January 8, 2013.
Michele Meyer,
Assistant Director, Legislative and Regulatory Activities Division.

[FR Doc. 2013-00531 Filed 1-11-13; 8:45 am]

BILLING CODE P